DEPARTMENT OF COMMERCE

International Trade Administration

[A-201-805]

Certain Circular Welded Non-Alloy Steel Pipe From Mexico: Final Results of Antidumping Duty Administrative Review and Rescission of Administrative Review in Part

AGENCY: Import Administration, International Trade Administration, Department of Commerce.

SUMMARY: On December 7, 2009, the Department of Commerce (the Department) published the preliminary results of the administrative review of the antidumping duty order on certain circular welded non-alloy steel pipe from Mexico. See Certain Circular Welded Non-Alloy Steel Pipe From Mexico; Preliminary Results of Antidumping Duty Administrative Review, 74 FR 64049 (December 7, 2009) (Preliminary Results). While the review originally covered eight companies, we rescinded the review with respect to all but the remaining three respondents. See Certain Circular Welded Non-Alloy Steel Pipe from Mexico: Notice of Partial Rescission of Antidumping Duty Administrative Review, 74 FR 20919 (May 6, 2009). We therefore treated Tuberia Nacional, S.A. de C.V. (TUNA), Ternium Mexico, S.A. de C.V. (Ternium) ¹ and Mueller Comercial de Mexico, S. de R.L. (Mueller) as mandatory respondents for the period November 1, 2007, to October 31, 2008. Based on our analysis of the comments received, we have made no changes from the Preliminary Results. We have listed the final dumping margin below in the section entitled “Final Results of Review.”

¹ Consistent with the Preliminary Results, and the Department's changed circumstances review of this order which found Ternium the successor-in-interest to Hylsa, we continue to consider Ternium and Hylsa as a single entity. See Preliminary Results; see also Final Results of Antidumping Duty Changed Circumstances Review: Certain Circular Welded Non-Alloy Steel Pipe and Tube from Mexico, 74 FR 41681 (August 18, 2009).

DATES: Effective Date: April 19, 2010.

FOR FURTHER INFORMATION CONTACT: Maryanne Burke or Robert James, AD/CVD Operations, Office 7, Import Administration, International Trade Administration, U.S. Department of Commerce, 14th Street and Constitution Avenue, NW., Washington, DC 20230; telephone: (202) 482-5604 and (202) 482-0649, respectively.

SUPPLEMENTARY INFORMATION:

Background

On December 7, 2009, the Department published in the Federal Register the preliminary results of the administrative review of the antidumping duty order on certain circular welded non-alloy steel pipe from Mexico for the period November 1, 2007, to October 31, 2008. See Preliminary Results. In response to the Department's invitation to comment on the preliminary results of this review, petitioner United States Steel Corporation (U.S. Steel), and respondents Mueller and Ternium filed their case briefs on January 6, 2010. U.S. Steel and respondent TUNA submitted rebuttal briefs on January 14, 2010.²

² On January 7, 2010, U.S. Steel requested an extension of its rebuttal brief which was granted by the Department. The new deadline for all parties' rebuttal briefs was set for January 14, 2010.

As explained in the memorandum from the Deputy Assistant Secretary for Import Administration, the Department has exercised its discretion to toll deadlines for the duration of the closure of the Federal Government from February 5, through February 12, 2010. Thus, all deadlines in this segment of the proceeding have been extended by seven days. The revised deadline for the final results of this administrative review is now April 13, 2010. See Memorandum to the Record from Ronald Lorentzen, DAS for Import Administration, regarding “Tolling of Administrative Deadlines As a Result of the Government Closure During the Recent Snowstorm,” dated February 12, 2010.

Scope of the Order

The products covered by this order are circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of this order, except line pipe, oil country tubular goods, boiler tubing, mechanical tubing, pipe and tube hollows for redraws, finished scaffolding, and finished conduit. Standard pipe that is dual or triple certified/stenciled that enters the U.S. as line pipe of a kind used for oil or gas pipelines is also not included in this order.

The merchandise covered by the order and subject to this review are currently classified in the Harmonized Tariff Schedule of the United States (HTSUS) at subheadings: 7306.30.10.00, 7306.30.50.25, 7306.30.50.32, 7306.30.50.40, 7306.30.50.55, 7306.30.50.85, and 7306.30.50.90. Although the HTSUS subheadings are provided for convenience and customs purposes, our written description of the scope of these proceedings is dispositive.

Analysis of Comments Received

All issues raised in the case and rebuttal briefs by interested parties in this administrative review are addressed in the Issues and Decision Memorandum (Decision Memorandum) from John M. Andersen, Acting Deputy Assistant Secretary for Import Administration, to Ronald K. Lorentzen, Deputy Assistant Secretary for Import Administration, dated April 13, 2010, which is hereby adopted by this notice. A list of the issues which parties have raised and to which we have responded, all of which are in the Decision Memorandum, is attached to this notice as an appendix. Parties can find a complete discussion of all issues raised in this review and the corresponding recommendations in this public memorandum, which is on file in the Central Records Unit in room 1117 of the main Department building. In addition, a complete version of the Decision Memorandum can be accessed directly via the Internet at http://ia.ita.doc.gov/frn/index.html. The paper copy and electronic version of the Decision Memorandum are identical in content.

Rescission of Review in Part

In the Preliminary Results, we preliminarily found TUNA's claim that it made no shipments of subject merchandise during the period of review was consistent with import data provided by U.S. Customs and Border Protection (CBP) as well as additional information developed on the record of this review. Accordingly, we stated our intent to rescind the administrative review with respect to this company. See Preliminary Results. We received comments about this issue from TUNA and U.S. Steel, and continue to find that TUNA did not make entries, exports, or sales of subject merchandise during the POR. For the final results of this review, we are, therefore, rescinding the review with respect to TUNA.

Use of Total Adverse Facts Available

The Department found in the Preliminary Results that Ternium and Mueller failed to cooperate to the best of their ability by withholding information requested by the Department's questionnaire, and thereby impeded the Department's proceeding. See Preliminary Results. Therefore, in accordance with section 776(b) of the Tariff Act of 1930, as amended (the Act), and 19 CFR 351.308(c), the Department preliminarily selected 48.33 percent as the adverse facts available dumping margin. The Department received comments regarding its preliminary application of the adverse facts available dumping margin to Ternium and Mueller. For these final results, the Department has not altered its analysis or decision to apply the adverse facts available dumping margin to Ternium and Mueller. See accompanying Decision Memorandum for the issues raised by the parties and addressed by the Department.

Final Results of Review

We determine the following percentage margin exists for the period November 1, 2007 to October 31, 2008:

Manufacturer/ Exporter | Weighted-Average margin (percentage)
Ternium | 48.33
Mueller | 48.33

Assessment

The Department will determine, and CBP shall assess, antidumping duties on all appropriate entries, pursuant to section 751(a)(1) of the Tariff Act of 1930, as amended (the Act) and 19 CFR 351.212(b). We will issue appraisement instructions directly to CBP to assess antidumping duties on appropriate entries by applying the assessment rate to the entered value of the merchandise. Pursuant to 19 CFR 356.8(a), the Department intends to issue assessment instructions to CBP 41 days after the date of publication of these final results of review.

Cash Deposit Requirements

The following cash deposit requirements will be effective upon publication of these final results for all shipments of the subject merchandise entered, or withdrawn from warehouse, for consumption on or after the publication date of these final results of administrative review, consistent with section 751(a)(1) of the Act: (1) The cash deposit rate for the reviewed companies will be the rate listed above; (2) if the exporter is not a firm covered in this review, but was covered in a previous review or the original less-than-fair-value (LTFV) investigation, the cash deposit rate will continue to be the company-specific rate published for the most recent period; (3) if the exporter is not a firm covered in this review, a prior review, or the original LTFV investigation, but the manufacturer is, the cash deposit rate will be the rate established for the most recent period for the manufacturer of the merchandise; and (4) the cash deposit rate for all other manufacturers or exporters will continue to be 32.62 percent, the all-others rate established in the LTFV investigation. See Final Determination of Sales at Less Than Fair Value: Circular Welded Non-Alloy Steel Pipe From Mexico, 57 FR 42953 (September 17, 1992). These deposit requirements, when imposed, shall remain in effect until further notice.

Notification to Interested Parties

This notice also serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a reminder to parties subject to administrative protective orders (APOs) of their responsibility concerning the disposition of proprietary information disclosed under APO in accordance with 19 CFR 351.305, which continues to govern business proprietary information in this segment of the proceeding. Timely written notification of the return or destruction of APO materials or conversion to judicial protective order is hereby requested. Failure to comply with the regulations and the terms of an APO is a sanctionable violation.

This notice is issued and published in accordance with sections 751(a)(1) and 777(i)(1) of the Act.

Dated: April 13, 2010.
Ronald K. Lorentzen,
Deputy Assistant Secretary for Import Administration.

Appendix—List of Issues in Decision Memorandum

Comment 1: Application of Total AFA to Ternium

Comment 2: Application of Total AFA to Mueller

Comment 3: Rescission of Administrative Review for TUNA

[FR Doc. 2010-8991 Filed 4-16-10; 8:45 am]

BILLING CODE 3510-DS-P